DEPARTMENT OF TRANSPORTATION

Surface Transportation Board

[STB Finance Docket No. 34229]

The Ohio & Pennsylvania Railroad Company—Acquisition and Operation Exemption—Rail Line of CSX Transportation, Inc., in Lowellville, OH

The Ohio & Pennsylvania Railroad Company (O&P), a Class III carrier, has filed a notice of exemption under 49 CFR 1150.41 to permit O&P to acquire by purchase from CSX Transportation, Inc. (CSXT), an approximately 0.89-mile rail line located between Valuation Station 3261 + 00 and Valuation Station 3308 + 00, in Lowellville, Mahoning County, OH.

The transaction was expected to be consummated after July 5, 2002, the effective date of the exemption (7 days after the exemption was filed).

The purpose of this transaction is to permit O&P to extend its line ¹ and facilitate the re-establishment of an interchange with CSXT at Lowellville. O&P certifies that its projected annual revenues as a result of this transaction will not result in the creation of a Class I or a Class II rail carrier.

¹ O&P owns approximately 2 miles of rail line between Struthers and Youngstown, OH, but does not currently operate over the line. The Mahoning Valley Railroad and the Central Columbiana and Pennsylvania Railroad (CCPR) operate over portions of O&P's line under trackage rights. O&P expects to resume freight operations in the near future as new traffic opportunities materialize. This transaction is expected to improve the efficiency of CCPR's current operation over O&P's line, and enhance O&P's own operations if it recommences service.

If the verified notice contains false or misleading information, the exemption is void ab initio. Petitions to revoke the exemption under 49 U.S.C. 10502(d) may be filed at any time. The filing of a petition to revoke will not automatically stay the transaction.

An original and 10 copies of all pleadings, referring to STB Finance Docket No. 34229 must be filed with the Surface Transportation Board, 1925 K Street, NW., Washington, DC 20423-0001. In addition, a copy of each pleading must be served on Kelvin J. Dowd, Slover & Loftus, 1224 Seventeenth Street, NW., Washington, DC 20036.

Board decisions and notices are available on our website at WWW.STB.DOT.GOV.

Decided: July 15, 2002.
By the Board, David M. Konschnik, Director, Office of Proceedings.
Vernon A. Williams,
Secretary.

[FR Doc. 02-18374 Filed 7-22-02; 8:45 am]

BILLING CODE 4915-00-P